DEPARTMENT OF HOMELAND SECURITY

Coast Guard

33 CFR Part 117

[USCG-2013-0490]

Drawbridge Operation Regulations; Saugatuck River, Westport, CT

AGENCY: Coast Guard, DHS.

ACTION: Notice of temporary deviation from regulations.

SUMMARY: The Commander, First Coast Guard District, has issued a temporary deviation from the regulation governing the operation of the Route 136 Bridge across the Saugatuck River, mile 1.3, at Westport, Connecticut. The deviation is necessary to facilitate emergency repairs. Under this temporary deviation, the bridge owner may require a 24 hour advance notice for bridge openings from June 2, 2013 through July 15, 2013.

DATES: This deviation is effective from June 11, 2013 through July 15, 2013, and has been enforced with actual notice since June 2, 2013.

ADDRESSES: The docket for this deviation, [USCG-2013-0391] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Barbara Hairston, Program Manager, Docket Operations, telephone 202-366-9826.

SUPPLEMENTARY INFORMATION: The Route 136 Bridge has a vertical clearance of 6 feet at mean high water in the closed position. The existing drawbridge operating regulations are found at 33 CFR 117.221(c).

The bridge owner, Connecticut Department of Transportation, requested a 24 hour advance notice requirement for bridge openings to facilitate emergency repairs to the mechanical and electrical components at the bridge.

The emergency repairs are necessary to repair storm damage from Hurricane Sandy.

Under this temporary deviation at least a 24 hour advance notice shall be required for bridge openings at the Route 136 Bridge, mile 1.3, across the Saugatuck River at Westport, Connecticut, from June 2, 2013 through July 15, 2013.

The Saugatuck River is predominantly a recreational waterway. The bridge rarely opens during the time period this temporary deviation will be in effect.

In accordance with 33 CFR 117.35(e), the bridge must return to its regular operating schedule immediately at the end of the designated repair period. This deviation from the operating regulations is authorized under 33 CFR 117.35.

Dated: May 30, 2013.
Gary Kassof,
Bridge Program Manager, First Coast Guard District.

[FR Doc. 2013-13755 Filed 6-10-13; 8:45 am]

BILLING CODE 9110-04-P